DEPARTMENT OF AGRICULTURE

Forest Service

White Pine-Nye County Resource Advisory Committee (RAC)

AGENCY: Forest Service, USDA.

ACTION: Notice of meeting.

SUMMARY: The White Pine-Nye County Resource Advisory Committee (RAC) will hold a meeting.

DATES: The meeting will be held on April 15th, 2011 and will begin at 9 a.m.

ADDRESSES: The meeting will be held in Eureka County at the Eureka County Annex, 701 S. Main Street, Eureka, Nevada 89316.

FOR FURTHER INFORMATION CONTACT: Jose Noriega, RAC Coordinator, USDA, Humboldt-Toiyabe National Forest, Ely Ranger District, 825 Avenue E Ely, NV 89301, (775) 289-3031; E-Mail jnoriega@fs.fed.us.

SUPPLEMENTARY INFORMATION: Agenda items include: (1) Remarks by Forest Supervisor, (2) Review and approve previous meeting's minutes and business expenses, (3) Review and recommend funding allocation for proposed projects; project submittal date deadline is March 31, 2011, (4) Public Comment, (5) Determine timeframes for the next round of project proposals if needed. The meeting is open to the public. Public input opportunity will be provided and individuals will have the opportunity to address the Committee at that time.

Dated: March 7, 2011.
Jeanne M. Higgins,
Forest Supervisor.

[FR Doc. 2011-5766 Filed 3-11-11; 8:45 am]

BILLING CODE 3410-11-P